Title 3—

The President

Proclamation 8102 of January 25, 2007

Fifth Anniversary of USA Freedom Corps, 2007

By the President of the United States of America

A Proclamation

The great strength of our Nation is found in the heroic kindness, courage, and self-sacrifice of the American people. Every day, individuals show the good heart of our country by volunteering to help make someone's life better. Since 2002, the USA Freedom Corps has provided access to volunteer opportunities for millions of Americans. On the fifth anniversary of the USA Freedom Corps, we honor volunteers who give their time and talents to make a difference in the lives of others, and we recognize that helping those in need makes America a more hopeful country.

The USA Freedom Corps was created to encourage Americans to answer the call to serve a cause greater than themselves. By matching willing volunteers with opportunities in their communities, the USA Freedom Corps brings Americans together to mentor children, assist the elderly, clean up neighborhoods, and perform countless acts of generosity. The USA Freedom Corps has helped support national service programs such as AmeriCorps, Citizen Corps, Peace Corps, and Senior Corps. Through programs like these, volunteers all across the country bring comfort and kindness to people at home and abroad.

Through the USA Freedom Corps website at volunteer.gov, all Americans can find ways to serve in our country's armies of compassion. By answering the universal call to help a neighbor, individual Americans can transform towns and cities into more caring communities and neighborhoods and make America a better place.

NOW, THEREFORE, I, GEORGE W. BUSH, President of the United States of America, by virtue of the authority vested in me by the Constitution and laws of the United States, do hereby proclaim January 29, 2007, as the Fifth Anniversary of the USA Freedom Corps. I call upon the citizens of this great country to find ways to volunteer and help their fellow Americans. I commend the efforts of the USA Freedom Corps and all those who have already answered the call to serve, and I encourage all Americans to give of their time, energy, and talents to make America even stronger.

IN WITNESS WHEREOF, I have hereunto set my hand this twenty-fifth day of January, in the year of our Lord two thousand seven, and of the Independence of the United States of America the two hundred and thirty-first.

[FR Doc. 07-418

Filed 1-29-07; 8:45 am]

Billing code 3195-01-P